DEPARTMENT OF COMMERCE

International Trade Administration

[A-570-909]

Certain Steel Nails From the People's Republic of China: Amended Preliminary Determination of Sales at Less Than Fair Value

AGENCY: Import Administration, International Trade Administration, Department of Commerce.

EFFECTIVE DATES: February 7, 2008.

SUMMARY: On January 23, 2008, the Department of Commerce (the “Department”) published the preliminary determination of sales at less than fair value (“LTFV”) in the antidumping investigation of certain steel nails from the People's Republic of China (“PRC”). See Certain Steel Nails From the People's Republic of China: Preliminary Determination of Sales at Less Than Fair Value and Partial Affirmative Determination of Critical Circumstances and Postponement of Final Determination, 73 FR 3928 (January 23, 2008) (“Preliminary Determination”). We are amending our preliminary determination to correct certain ministerial errors with respect to the antidumping duty margin calculation for Illinois Tool Works Inc. and Paslode Fasteners (Shanghai) Co., Ltd. (collectively, “Paslode”). The corrections to Paslode's margin also affect the margin applied to companies granted separate-rate status.

FOR FURTHER INFORMATION CONTACT: Nicole Bankhead, AD/CVD Operations, Office 9, Import Administration, International Trade Administration, U.S. Department of Commerce, 14th Street and Constitution Avenue, NW., Washington, DC, 20230; telephone: (202) 482-9068.

SUPPLEMENTARY INFORMATION: On January 23, 2008, the Department published in the Federal Register the preliminary determination that certain steel nails (“nails”) from the PRC are being, or are likely to be, sold in the United States at LTFV, as provided in section 733 of the Tariff Act of 1930, as amended (“the Act”). See Preliminary Determination.

On January 22, 2008, Paslode and Petitioners¹ filed timely allegations of ministerial errors contained in the Department's Preliminary Determination. After reviewing the allegations, we have determined that the Preliminary Determination included significant ministerial errors. Therefore, in accordance with 19 CFR 351.224(e), we have made changes, as described below, to the Preliminary Determination.

Period of Investigation

The period of investigation (“POI”) is October 1, 2006, through March 31, 2007. This period corresponds to the two most recent fiscal quarters prior to the month of the filing of the petition, May 2007. See 19 CFR 351.204(b)(1).

¹Mid Continent Nail Corporation, Davis Wire Corporation, Gerdau Ameristeel Corporation (Atlas Steel & Wire Division), Maze Nails (Division of W.H. Maze Company), Treasure Coast Fasteners, Inc., and the United Steel, Paper and Forestry, Rubber, Manufacturing, Energy, Allied Industrial and Service Workers International Union (collectively, “Petitioners”).

Scope of Investigation

The merchandise covered by this investigation includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire. Certain steel nails subject to this proceeding are currently classified under the Harmonized Tariff Schedule of the United States (“HTSUS”) subheadings 7317.00.55, 7317.00.65 and 7317.00.75.

Excluded from the scope of this proceeding are roofing nails of all lengths and diameter, whether collated or in bulk, and whether or not galvanized. Steel roofing nails are specifically enumerated and identified in ASTM Standard F 1667 (2005 revision) as Type I, Style 20 nails. Also excluded from the scope of this proceeding are corrugated nails. A corrugated nail is made of a small strip of corrugated steel with sharp points on one side. Also excluded from the scope of this proceeding are fasteners suitable for use in powder-actuated hand tools, not threaded and threaded, which are currently classified under HTSUS 7317.00.20 and 7317.00.30. Also excluded from the scope of this proceeding are thumb tacks, which are currently classified under HTSUS 7317.00.10.00. Also excluded from the scope of this proceeding are certain brads and finish nails that are equal to or less than 0.0720 inches in shank diameter, round or rectangular in cross section, between 0.375 inches and 2.5 inches in length, and that are collated with adhesive or polyester film tape backed with a heat seal adhesive.

While the HTSUS subheadings are provided for convenience and customs purposes, the written description of the scope of these investigations is dispositive.

Significant Ministerial Error

Ministerial errors are defined in section 735(e) of the Act as “errors in addition, subtraction, or other arithmetic function, clerical errors resulting from inaccurate copying, duplication, or the like, and any other type of unintentional error which the administering authority considers ministerial.” Section 351.224(e) of the Department's regulations provides that the Department “will analyze any comments received and, if appropriate, correct any significant ministerial error by amending the preliminary determination* * *.” A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g).

Ministerial Error Allegations From Paslode

Rail Freight

Paslode argues that the Department incorrectly applied the rail freight surrogate value in calculating the antidumping duty margin. Paslode notes in calculating the margin, the Department set the surrogate value for rails to 6.07 rupees per kilogram. See Memorandum to the File from Matthew Renkey, through Alex Villanueva, Program Manager, AD/CVD Operations, Office 9, and James C. Doyle, Director, AD/CVD Operations, Office 9: Certain Steel Nails from the People's Republic of China: Surrogate Values for the Preliminary Determination, dated January 15, 2008 (“Surrogate Value Memorandum”) at 11. According to Paslode, the calculation was incorrectly reading the Indian freight rates provided on the Indian Railways website as if they were stated on a per quintal (100) kilogram basis. However, Paslode asserts that the Indian freight rates provided on the Indian Railways website are stated on a per ton (1000) kilogram basis. See Petitioners' December 3, 2007, Surrogate Value Submission at Exhibit 52. Therefore, Paslode argues that the correct freight rate is 0.607 rupees per kilogram.

We agree that the Department incorrectly calculated the rail surrogate value. This error qualifies as a ministerial error in accordance with section 735(e) of the Act. Moreover, when considered in combination with the other corrections discussed below, this error constitutes a significant ministerial error in accordance with section 351.224(g) of the Department's regulations.

Ministerial Error Allegations From Petitioners

Billing Adjustments

Petitioners state that the Department inadvertently did not account for Paslode's reported billing adjustments. Petitioners argue that the Department should adjust the gross unit price to account for these billing adjustments in the targeted dumping analysis program. In addition, Petitioners argue that this same change needs to be made to Paslode's margin calculation programs.

We agree that the Department did not account for certain billing adjustments in the targeted dumping and margin calculation programs. Paslode reported that it incurred billing adjustments in its January 3, 2008, supplemental Section C questionnaire response and we indicated that we were adjusting for these billing adjustments. See Memorandum to the File from Nicole Bankhead, Senior Case Analyst: Program Analysis for the Preliminary Determination of Antidumping Duty Investigation of Certain Steel Nails from the People's Republic of China: Paslode, dated January 15, 2008 (“Paslode Analysis Memorandum”). However, the Department inadvertently did not include billing adjustments in Paslode's margin calculation program. This error qualifies as a ministerial error in accordance with section 735(e) of the Act. Moreover, when considered in combination with the other corrections discussed below, this error constitutes a significant ministerial error in accordance with section 351.224(g) of the Department's regulations.

Profit Surrogate Value

Petitioners argue that the Department used the incorrect surrogate value for profit in the CEP profit calculation in Paslode's targeted dumping analysis program.

We agree that the Department inadvertently mis-entered the profit surrogate value in the CEP profit calculation in Paslode's targeted dumping analysis program. This error qualifies as a ministerial error in accordance with section 735(e) of the Act. Moreover, when considered in combination with the other corrections discussed in this notice, this error constitutes a significant ministerial error in accordance with section 351.224(g) of the Department's regulations.

Brokerage and Handling Surrogate Value

Petitioners argue that the Department inadvertently entered the incomplete surrogate brokerage and handling charge in the calculation of Paslode's movement expenses.

We agree that the Department inadvertently only entered the surrogate brokerage and handling charge out to two decimal points instead of five in the calculation of Paslode's movement expenses. This error qualifies as a ministerial error in accordance with section 735(e) of the Act. Moreover, when considered together with the other corrections discussed in this notice, this error constitutes a significant ministerial error in accordance with section 351.224(g) of the Department's regulations.

Amended Preliminary Determination

We determine that these allegations qualify as ministerial errors as defined in section 351.224(g) of the Department's regulations because they result in a change of more than five absolute percentage points to Paslode's dumping margin. Accordingly, we have corrected the errors alleged by Paslode and Petitioners. See Memorandum to the File from Nicole Bankhead, Senior Case Analyst: Program Analysis for the Amended Preliminary Determination of Antidumping Duty Investigation of Certain Steel Nails from the People's Republic of China: Paslode, dated January 30, 2008 (“Paslode Amended Prelim Analysis Memorandum”).

As a result of correcting the above errors made to Paslode's margin, the margin for the companies granted separate rate status must also be revised because the margin for those companies was partially derived from Paslode's margin. See Paslode Amended Prelim Analysis Memorandum at Exhibit 5.

As a result of corrections of ministerial errors, the weighted-average dumping margins are as follows:

Certain Steel Nails From the PRC ²
Exporter | Producer | Weighted- average margin (percent)
Paslode Fasteners (Shanghai) Co., Ltd.^ | Paslode Fasteners (Shanghai) Co., Ltd | 4.70
Xingya Group:*
Suzhou Xingya Nail Co., Ltd | Suzhou Xingya Nail Co., Ltd | 44.57
Senco-xingya Metal Products (Taicang) Co., Ltd | Senco-xingya Metal Products (Taicang) Co., Ltd
Hong Kong Yu Xi Co., Ltd | Wuxi Chengye Metal Products Co., Ltd
Jisco Corporation^ | Qingdao Jisco Co., Ltd | 19.12
Koram Panagene Co., Ltd.^ | Qingdao Koram Steel Co., Ltd | 19.12
Handuk Industrial Co., Ltd.^ | Rizhao Handuk Fasteners Co., Ltd.; Rizhao Changxing Nail-Making Co., Ltd | 19.12
Kyung Dong Corp.* | Rizhao Qingdong Electric Appliance Co., Ltd | 19.12
Xi'an Metals & Minerals Import and Export Co., Ltd. * | Huanghua Jinhai Hardware Products Co., Ltd | 19.12
Hebei Cangzhou New Century Foreign Trade Co., Ltd.* | Huanghua Jinhai Hardware Products Co., Ltd.; Beijing Hongsheng Metal Products Co., Ltd.; Tianjin Dagang Huasheng Nailery Co., Ltd | 19.12
Chongqing Hybest Tools Group Co., Ltd.* | Chongqing Hybest Nailery Co., Ltd | 19.12
China Silk Trading & Logistics Co., Ltd.* | Maanshan Longer Nail Product Co., Ltd.; Wuxi Qiangye Metalwork Production Co., Ltd | 19.12
Beijing Daruixing Global Trading Co., Ltd.* | Beijing Tri-Metal Co., Ltd.; Beijing Daruixing Nail Products Co., Ltd.; Tianjin Kunxin Hardware Co., Ltd.; Tianjin Hewang Nail Making Factory | 19.12
Huanghua Jinhai Hardware Products Co., Ltd.* | Huanghua Jinhai Hardware Products Co., Ltd | 19.12
Beijing Daruixing Nail Products Co., Ltd.* | Beijing Tri-Metal Co., Ltd.; Beijing Daruixing Nail Products Co., Ltd | 19.12
Beijing Tri-Metal Co., Ltd.* | Beijing Tri-Metal Co., Ltd.; Beijing Daruixing Nail Products Co., Ltd | 19.12
Cana (Tianjin) Hardware Ind., Co., Ltd.^ | Cana (Tianjin) Hardware Ind., Co., Ltd | 19.12
China Staple Enterprise (Tianjin) Co., Ltd.^ | China Staple Enterprise (Tianjin) Co., Ltd | 19.12
Hengshui Mingyao Hardware & Mesh Products Co., Ltd.^ | Hengshui Mingyao Hardware & Mesh Products Co., Ltd | 19.12
Nanjing Dayu Pneumatic Gun Nails Co., Ltd.^ | Nanjing Dayu Pneumatic Gun Nails Co., Ltd | 19.12
Qidong Liang Chyuan Metal Industry Co., Ltd.^ | Qidong Liang Chyuan Metal Industry Co., Ltd | 19.12
Romp (Tianjin) Hardware Co., Ltd.^ | Romp (Tianjin) Hardware Co., Ltd | 19.12
Shandong Dinglong Import & Export Co., Ltd.* | Qingyun Hongyi Hardware Factory | 19.12
Tianjin Jinchi Metal Products Co., Ltd.* | Tianjin Jinchi Metal Products Co., Ltd | 19.12
Tianjin Jurun Metal Products Co., Ltd.* | Tianjin Jurun Metal Products Co., Ltd | 19.12
Zhejiang Gem-Chun Hardware Accessory Co., Ltd.^ | Zhejiang Gem-Chun Hardware Accessory Co., Ltd | 19.12
Huanghua Xionghua Hardware Products Co., Ltd.^ | Huanghua Xionghua Hardware Products Co., Ltd | 19.12
Zhaoqing Harvest Nails Co., Ltd.^ | Zhaoqing Harvest Nails Co., Ltd | 19.12
SDC International Australia Pty., Ltd.+ | S-mart Tianjin Technology Development Co., Ltd.; Tianjin Jishili Hardware Co., Ltd.; Tianjin Baisheng Metal Product Co., Ltd.; Tianjin Foreign Trade (Group) Textile & Garment Co., Ltd.; Dagang Zhitong Metal Products Co., Ltd | 19.12
Tianjin Universal Machinery Imp & Exp Corporation* | Huanghua Shenghua Hardware Manufactory Factory; Tianjin Dagang Dongfu Metallic Products Co., Ltd.; Tianjin Dagang Jingang Nail Factory; Tianjin Dagang Linda Metallic Products Co., Ltd.; Tianjin Dagang Yate Nail Co., Ltd.; Tianjin Jieli Hengyuan Metallic Products Co., Ltd.; Tianjin Shishun Metallic Products Co., Ltd.; Tianjin Yihao Metallic Products Co., Ltd.; Tianjin Yongcang Metallic Products Co., Ltd | 19.12
Certified Products International Inc.+ | Huanghua Jinhai Hardware Products Co., Ltd.; Shanxi Yuci Broad Wire Products Co., Ltd.; Hengshui Mingyao Hardware & Mesh Products Co., Ltd.; Tianjin Zhonglian Metals Ware Co., Ltd.; Beijing Daruixing Nail Products Co., Ltd.; Huanghua Xionghua Hardware Products Co., Ltd.; Tianjin Port Free Trade Zone Xiangtong Intnl. Industry & Trade Corp.; Shandong Dinglong Import & Export Co., Ltd.; Wuhu Shijie Hardware Co., Ltd.; Romp (Tianjin) Hardware Co., Ltd.; Tianjin Jurun Metal Products Co., Ltd.; Yitian (Nanjing) Hardware Co., Ltd.; Nanjing Da Yu Pneumatic Gun Nails Co., Ltd.; Wintime Import & Export Corporation Limited of Zhongshan; Tianjin Chentai International Trading Co., Ltd.; Tianjin Longxing (Group) Huanyu Imp. & Exp. Co., Ltd.; Zhejiang Gem-Chun Hardware Accessory Co., Ltd.; Shanxi Pioneer Hardware Industrial Co., Ltd.; Wuhu Xin Lan De Industrial Co., Ltd.; Tianjin Zhitong Metal Products Co., Ltd.; Suntec Industries Co., Ltd.; China Staple Enterprise (Tianjin) Co., Ltd.; Tianjin Jinghai County Hongli Industry & Business Co., Ltd.; Hebei Super Star Pneumatic Nails Co., Ltd.; Shanghai Chengkai Hardware Products Co., Ltd.; Tianjin Jinchi Metal Products Co., Ltd.; Shaoxing Chengye Metal Producting Co., Ltd.; Tianjin Shenyuan Steel Producting Group Co., Ltd.; Shanghai Jade Shuttle Hardware Tools Co., Ltd | 19.12
Dezhou Hualude Hardware Products Co., Ltd.* | Tianjin Bosai Hardware Tools Co., Ltd.; Beijing Yonghongsheng Metal Products Co., Ltd.; Tianjin City Jinchi Metal Products Co., Ltd.; Huanghua Huarong Hardware Products Co., Ltd.; Huanghua Yufutai Hardware Products Co., Ltd.; Qingyuan County Hongyi Hardware Products Factory; Tianjin Zhitong Metal Products Co., Ltd.; Tianjin Baisheng Metal Products Co., Ltd.; Tianjin Dagang Hewang Nails Factory | 19.12
Shanxi Tianli Industries Co., Ltd.* | Dingzhou Ruili Nail Production Co., Ltd.; Haixing Hongda Hardware Production Co., Ltd.; Huanghua Xinda Nail Production Co., Ltd.; Tianjin Huachang Metal Products Co., Ltd.; Tianjin Huapeng Metal Company; Tianjin Huasheng Nails Production Co., Ltd.; Tianjin Jin Gang Metal Products Co., Ltd.; Tianjin Kunxin Metal Products Co., Ltd.; Tianjin Linda Metal Company; Tianjin Xinyuansheng Metal Products Co., Ltd.; Tianjin Yongyi Standard Parts Production Co., Ltd.; Wuqiao Huifeng Hardware Production Co., Ltd | 19.12
Suntec Industries Co., Ltd.* | Wuqiao County Huifeng Hardware Products Factory; Wuqiao County Xinchuang Hardware Products Factory; Huanghua Jinhai Hardware Products Co., Ltd.; Haixin Linhai Hardware Products Factory; Tianjin Baisheng Metal Products Co., Ltd.; Tianjin City Jinchi Metal Products Co., Ltd.; Tianjin City Dagang Area Jinding Metal Products Factory; Tianjin Jishili Hardware Products Co., Ltd.; Tianjin Jietong Hardware Products Co., Ltd.; Tianjin Ruiji Metal Products Co., Ltd.; Tianjin Yongxu Metal Products Co., Ltd.; Wuxi Baolin Nail-Making Machinery Co., Ltd.; Suzhou Xinya Nail Co., Ltd | 19.12
Sinochem Tianjin Imp & Exp Shenzhen Corp.* | Tianjin JLHY Metal Products Co., Ltd | 19.12
Qingdao D&L Group Ltd.* | Tianjin City Daman Port Area Jinding Metal Products Factory; Tianjin Yongxu Metal Products Co., Ltd.; Huanghua Jinhai Metal Products Co., Ltd.; Dong'e Fuqiang Metal Products Co., Ltd | 19.12
Tianjin Xiantong Material & Trade Co., Ltd.* | Xiantong Fucheng Gun Nail Manufacture Co., Ltd | 19.12
Zhongshan Junlong Nail Manufactures Co., Ltd.+ | Zhongshan Junlong Nail Manufactures Co., Ltd | 19.12
Shandong Minmetals Co., Ltd.* | Shouguang Meiqing Nail Industry Co., Ltd | 19.12
Shouguang Meiqing Nail Industry Co., Ltd.^ | Shouguang Meiqing Nail Industry Co., Ltd | 19.12
S-mart (Tianjin) Technology Development Co., Ltd.^ | Tianjin Jishili Hardware Co., Ltd.; Tianjin Baisheng Metal Product Co., Ltd.; Tianjin Dagang Hewang Nail Factory; Tianjin Shishun Metal Products Co., Ltd.; Tianjin Xinyuansheng Metal Product Co., Ltd.; Tianjin Yongchang Metal Product Co., Ltd | 19.12
Tianjin Lianda Group Co., Ltd.* | Tianjin Dagang Hewang Nails Manufacture Plant; Tianjin Dagang Jingang Nails Manufacture Plant; Tianjin Dagang Longhua Metal Products Plant; Tianjin Dagang Shenda Metal Products Co., Ltd.; Tianjin Jietong Metal Products Co., Ltd.; Tianjin Qichuan Metal Products Co., Ltd.; Tianjin Yongxu Metal Products Co., Ltd.; Zhangjiagang Longxiang Packing Materials Co., Ltd | 19.12
Union Enterprise Co., Ltd.^ | Union Enterprise Co., Ltd | 19.12
Beijing Hong Sheng Metal Co., Ltd.* | Beijing Hong Sheng Metal Co., Ltd | 19.12
PT Enterprise Inc.+ | Shanxi Hairui Trade Co., Ltd.; Shanxi Pioneer Hardware Industrial Co., Ltd.; Shanxi Yuci Broad Wire Products Co., Ltd | 19.12
Shanxi Hairui Trade Co., Ltd.* | Shanxi Pioneer Hardware Industrial Co., Ltd.; Shanxi Yuci Broad Wire Products Co., Ltd | 19.12
Shanxi Pioneer Hardware Industrial Co., Ltd.* | Shanxi Pioneer Hardware Industrial Co., Ltd | 19.12
Shanxi Yuci Broad Wire Products Co., Ltd.* | Shanxi Yuci Broad Wire Products Co., Ltd | 19.12
Yitian Nanjing Hardware Co., Ltd.^ | Yitian Nanjinghardware Co., Ltd | 19.12
Chiieh Yung Metal Ind. Corp.+ | Cym (Nanjing) Nail Manufacture Co., Ltd | 19.12
Shanghai Seti Enterprise International Co., Ltd.* | Suzhou Yaotian Metal Products Co. Ltd | 19.12
Shanghai Curvet Hardware Products Co., Ltd.^ | Shanghai Tengyu Hardware Tools Co., Ltd | 19.12
Shanghai Tengyu Hardware Tools Co., Ltd.* | Shanghai Curvet Hardware Products Co., Ltd | 19.12
Xuzhou CIP International Group Co., Ltd.^ | Xuzhou CIP International Group Co., Ltd | 19.12
Wuhu Shijie Hardware Co., Ltd.* | Wuhu Shijie Hardware Co., Ltd | 19.12
Wuhu Xin Lan De Industrial Co., Ltd.* | Wuhu Xin Lan De Industrial Co., Ltd | 19.12
Tianjin Zhonglian Metals Ware Co., Ltd.* | Tianjin Zhonglian Metals Ware Co., Ltd | 19.12
Jining Huarong Hardware Products Co., Ltd.* | Jining Huarong Hardware Products Co., Ltd | 19.12
Mingguang Abundant Hardware Products Co., Ltd.* | Mingguang Abundant Hardware Products Co., Ltd | 19.12
Shandong Oriental Cherry Hardware Group Co., Ltd.* | Shandong Oriental Cherry Hardware Group Co., Ltd | 19.12
Shandong Oriental Cherry Hardware Import and Export Co., Ltd.* | Shandong Oriental Cherry Hardware Import and Export Co., Ltd.* | 19.12
Shanghai Chengkai Hardware Product. Co., Ltd.^ | Shanghai Chengkai Hardware Product. Co., Ltd | 19.12
Shanghai Jade Shuttle Hardware Tools Co., Ltd.^ | Shanghai Jade Shuttle Hardware Tools Co., Ltd | 19.12
Shanghai Yueda Nails Industry Co., Ltd.* | Shanghai Yueda Nails Industry Co., Ltd | 19.12
Besco Machinery Industry (Zhejiang) Co., Ltd.+ | Besco Machinery Industry (Zhejiang) Co., Ltd | 19.12
The Stanley Works (Langfang) Fastening Systems Co., Ltd.^ | The Stanley Works (Langfang) Fastening Systems Co., Ltd | 19.12
Guangdong Foreign Trade Import & Export Corporation* | Shanghai Nanhui Jinjun Hardware Factory | 19.12
PRC-wide |  | 118.04
² Companies designated with a “^” are wholly foreign owned, “+” are located in a market economy, and a “*” are joint-venture companies between Chinese and foreign companies or are wholly Chinese owned, as explained above in the “SEPARATE RATES” section.

The collection of bonds or cash deposits and suspension of liquidation will be revised accordingly and parties will be notified of this determination, in accordance with section 733(d) and (f) of the Act.

International Trade Commission Notification

In accordance with section 733(f) of the Act, we have notified the International Trade Commission (“ITC”) of our amended preliminary determination. If our final determination is affirmative, the ITC will make its final determination as to whether the domestic industry in the United States is materially injured, or threatened with material injury, by reason of imports of certain lined paper products, or sales (or the likelihood of sales) for importation, of the subject merchandise within 45 days of our final determination.

This determination is issued and published in accordance with sections 733(f) and 777(i)(1) of the Act and 19 CFR 351.224(e).

Dated: January 30, 2008.
David M. Spooner,
Assistant Secretary for Import Administration.

[FR Doc. E8-2273 Filed 2-6-08; 8:45 am]

BILLING CODE 3510-DS-P